DEPARTMENT OF ENERGY

Federal Energy Regulatory Commission

Combined Notice of Filings #1

Take notice that the Commission received the following electric corporate filings:

Docket Numbers: EC22-67-000.

Applicants: Eurus Combine Hills I LLC, Eurus Combine Hills II LLC, Avenal Park LLC, Sand Drag LLC, Sun City Project LLC, Spearville 3, LLC.

Description: Joint Application for Authorization Under Section 203 of the Federal Power Act of Eurus Combine Hills I LLC, et al.

Filed Date: 5/26/22.

Accession Number: 20220526-5117.

Comment Date: 5 p.m. ET 6/16/22.

Take notice that the Commission received the following Complaints and Compliance filings in EL Dockets:

Docket Numbers: EL22-58-000.

Applicants: Wabash Valley Power Association, Inc.

Description: Petition for Declaratory Order of Wabash Valley Power Association, Inc.

Filed Date: 5/18/22.

Accession Number: 20220518-5185.

Comment Date: 5 p.m. ET 6/27/22.

Docket Numbers: EL22-59-000.

Applicants: Tenaska Clear Creek Wind, LLC v. Southwest Power Pool, Inc., et al.

Description: Complaint of Tenaska Clear Creek Wind, LLC.

Filed Date: 5/25/22.

Accession Number: 20220525-5144.

Comment Date: 5 p.m. ET 6/14/22.

Take notice that the Commission received the following electric rate filings:

Docket Numbers: ER20-1298-002.

Applicants: Midcontinent Independent System Operator, Inc.

Description: Compliance filing: 2022-05-26_MISO TOs Order 864 Additional Compliance to be effective 1/27/2020.

Filed Date: 5/26/22.

Accession Number: 20220526-5147.

Comment Date: 5 p.m. ET 6/16/22.

Docket Numbers: ER21-2524-004.

Applicants: PJM Interconnection, L.L.C.

Description: Compliance filing: Errata to ER21-2524-003 RE Compliance to Waiver NAESB Business Practice to be effective 5/1/2022.

Filed Date: 5/26/22.

Accession Number: 20220526-5079.

Comment Date: 5 p.m. ET 6/16/22.

Docket Numbers: ER22-1197-001.

Applicants: Southern California Edison Company.

Description: Tariff Amendment: Response to Deficiency Letter—SCE Second Amended LGIA Catalina Solar TOT455 to be effective 3/5/2022.

Filed Date: 5/26/22.

Accession Number: 20220526-5002.

Comment Date: 5 p.m. ET 6/16/22.

Docket Numbers: ER22-1439-001.

Applicants: EdSan 1B Group 1 Edwards, LLC.

Description: Tariff Amendment: Amendment to Petition for Market-Based Rate Authorization to be effective 5/24/2022.

Filed Date: 5/25/22.

Accession Number: 20220525-5140.

Comment Date: 5 p.m. ET 5/31/22.

Docket Numbers: ER22-1440-001.

Applicants: EdSan 1B Group 1 Sanborn, LLC.

Description: Tariff Amendment: Amendment to Petition for Market-Based Rate Authorization to be effective 5/24/2022.

Filed Date: 5/25/22.

Accession Number: 20220525-5145.

Comment Date: 5 p.m. ET 5/31/22.

Docket Numbers: ER22-1441-001.

Applicants: EdSan 1B Group 2, LLC.

Description: Tariff Amendment: Amendment to Petition for Market-Based Rate Authorization to be effective 5/24/2022.

Filed Date: 5/25/22.

Accession Number: 20220525-5150.

Comment Date: 5 p.m. ET 5/31/22.

Docket Numbers: ER22-1662-001.

Applicants: GB II New York LLC.

Description: Compliance filing: Supplement to Notice of Succession to be effective 4/20/2022.

Filed Date: 5/26/22.

Accession Number: 20220526-5195.

Comment Date: 5 p.m. ET 6/16/22.

Docket Numbers: ER22-1956-000.

Applicants: Idaho Power Company.

Description: § 205(d) Rate Filing: Amend 4.6 of Rate Schedule 69 to be effective 7/26/2022.

Filed Date: 5/26/22.

Accession Number: 20220526-5000.

Comment Date: 5 p.m. ET 6/16/22.

Docket Numbers: ER22-1957-000.

Applicants: Southwest Power Pool, Inc.

Description: § 205(d) Rate Filing: 3954 Huckleberry Solar GIA to be effective 5/5/2022.

Filed Date: 5/26/22.

Accession Number: 20220526-5008.

Comment Date: 5 p.m. ET 6/16/22.

Docket Numbers: ER22-1958-000.

Applicants: Southwest Power Pool, Inc.

Description: § 205(d) Rate Filing: 3125R11 Basin Electric Power Cooperative NITSA and NOA to be effective 5/1/2022.

Filed Date: 5/26/22.

Accession Number: 20220526-5013.

Comment Date: 5 p.m. ET 6/16/22.

Docket Numbers: ER22-1959-000.

Applicants: PJM Interconnection, L.L.C.

Description: § 205(d) Rate Filing: Original ISA, Service Agreement No. 6464; Queue No. AE2-319 to be effective 5/2/2022.

Filed Date: 5/26/22.

Accession Number: 20220526-5028.

Comment Date: 5 p.m. ET 6/16/22.

Docket Numbers: ER22-1960-000.

Applicants: Arizona Public Service Company.

Description: § 205(d) Rate Filing: Service Agreement No. 388, Amendment No. 2 to E&P to be effective 7/26/2022.

Filed Date: 5/26/22.

Accession Number: 20220526-5122.

Comment Date: 5 p.m. ET 6/16/22.

Docket Numbers: ER22-1961-000.

Applicants: Arizona Public Service Company.

Description: § 205(d) Rate Filing: Service Agreement No. 401, Yucca Surplus Agreement to be effective 5/12/2022.

Filed Date: 5/26/22.

Accession Number: 20220526-5125.

Comment Date: 5 p.m. ET 6/16/22.

Docket Numbers: ER22-1962-000.

Applicants: Duke Energy Carolinas, LLC.

Description: Tariff Amendment: DEC-NCEMC RS 564 Cancellation to be effective 7/26/2022.

Filed Date: 5/26/22.

Accession Number: 20220526-5140.

Comment Date: 5 p.m. ET 6/16/22.

Docket Numbers: ER22-1963-000.

Applicants: Duke Energy Carolinas, LLC.

Description: Tariff Amendment: DEC-New River RS 543 Cancellation to be effective 7/26/2022.

Filed Date: 5/26/22.

Accession Number: 20220526-5148.

Comment Date: 5 p.m. ET 6/16/22.

Docket Numbers: ER22-1964-000.

Applicants: Midcontinent Independent System Operator, Inc.

Description: § 205(d) Rate Filing: 2022-05-26_SA 3373 Entergy Arkansas-Newport Solar 1st Rev GIA (J919 J1402) to be effective 5/17/2022.

Filed Date: 5/26/22.

Accession Number: 20220526-5156.

Comment Date: 5 p.m. ET 6/16/22.

Docket Numbers: ER22-1965-000.

Applicants: Tri-State Generation and Transmission Association, Inc.

Description: § 205(d) Rate Filing: Amendment to Rate Schedule FERC No. 14 to be effective 7/25/2022.

Filed Date: 5/26/22.

Accession Number: 20220526-5196.

Comment Date: 5 p.m. ET 6/16/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2022.
Debbie-Anne A. Reese,
Deputy Secretary.

[FR Doc. 2022-11829 Filed 6-1-22; 8:45 am]

BILLING CODE 6717-01-P